DEPARTMENT OF TRANSPORTATION

Federal Aviation Administration

Agency Information Collection Activities: Requests for Comments; Clearance of Renewed Approval of Information Collection: Commercial Aviation Safety Team Safety Enhancements

AGENCY: Federal Aviation Administration (FAA), DOT.

ACTION: Notice and request for comments.

SUMMARY: In accordance with the Paperwork Reduction Act of 1995, FAA invites public comments about our intention to request the Office of Management and Budget (OMB) approval to renew a previously approved information collection. The FAA is collecting safety-related data regarding the voluntary implementation of Commercial Aviation Safety Team (CAST) safety enhancements (SEs) from certificate holders conducting operations under 14 CFR part 121 and parts 121/135.

DATES: Written comments should be submitted by February 13, 2017.

ADDRESSES: Send comments to the FAA at the following address: Ronda Thompson, Room 441, Federal Aviation Administration, ASP-110, 950 L'Enfant Plaza SW., Washington, DC 20024.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson by email at: Ronda.Thompson@faa.gov.

SUPPLEMENTARY INFORMATION:

OMB Control Number: 2120-0757.

Title: Commercial Aviation Safety Team Safety Enhancements.

Form Numbers: None.

Type of Review: Renewal of an information collection.

Background: The FAA is collecting safety-related data regarding the voluntary implementation of Commercial Aviation Safety Team safety enhancements from certificate holders conducting operations under 14 CFR part 121 and parts 121/135. Certificate-holder participation in this data collection will be voluntary and is not required by regulation. As CAST SEs are finalized, the FAA will determine the details of individual information collections in consultation with CAST and certificate holders.

Respondents: Approximately 100 respondents.

Frequency: Information is collected on occasion.

Estimated Average Burden per Response: 40 minutes.

Estimated Total Annual Burden: 1333.33 hours.

Issued in Washington, DC, on December 8, 2016.
Ronda L Thompson,
FAA Information Collection Clearance Officer, Performance, Policy, and Records Management Branch, ASP-110.

[FR Doc. 2016-29995 Filed 12-13-16; 8:45 am]

BILLING CODE 4910-13-P